DEPARTMENT OF COMMERCE

National Oceanic and Atmospheric Administration

RIN 0648-XB160

Marine Mammals; File No. 16193

AGENCY: National Marine Fisheries Service (NMFS), National Oceanic and Atmospheric Administration (NOAA), Commerce.

ACTION: Notice; receipt of application.

SUMMARY: Notice is hereby given that Todd Robeck, D.V.M, Ph.D., Sea World Parks and Entertainment Corp, 500 Sea World Drive, San Diego, CA 92109, has applied in due form for a permit to receive, import, and export specimens of marine mammals for scientific research.

DATES: Written, telefaxed, or email comments must be received on or before July 30, 2012.

ADDRESSES: The application and related documents are available for review by selecting “Records Open for Public Comment” from the Features box on the Applications and Permits for Protected Species (APPS) home page, https://apps.nmfs.noaa.gov, and then selecting File No. 16193 from the list of available applications.

These documents are also available upon written request or by appointment in the following offices:

Permits and Conservation Division, Office of Protected Resources, NMFS, 1315 East-West Highway, Room 13705, Silver Spring, MD 20910; phone (301) 427-8401; fax (301) 713-0376; and Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. 16193 in the subject line of the email comment.

Those individuals requesting a public hearing should submit a written request to the Chief, Permits and Conservation Division at the address listed above. The request should set forth the specific reasons why a hearing on this application would be appropriate.

FOR FURTHER INFORMATION CONTACT: Jennifer Skidmore or Amy Sloan, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant is requesting authorization to receive, import, and export an unlimited number of cetacean and pinniped specimens (from several species of dolphin, pilot whales, beluga whales, killer whales, South American sea lions, Steller sea lions, and Hawaiian monk seals) including but not limited to reproductive cells and organs, urine, feces, teeth, skin, saliva, ocular and nasal secretions, and whole blood taken from dead or captive individuals to study reproductive physiology, including endocrinology, gamete biology, and cryophysiology.

Specimens from dead animals, located solely within the jurisdiction of the U.S.A. or Canada, would be collected under the following circumstances: Legal subsistence harvesting; killed incidentally to fishing or other operations; found dead at sea or beached; or that died of natural causes. No specimens would be imported from animals killed during high seas driftnet fisheries or during a direct fishery. From dead animals, samples from not more than 40 animals per species are anticipated to be collected per year. For captive animals, specimens would be collected from animals that are being housed in countries or situations where such activity is legal and from animals that have been behaviorally conditioned for specimen donation or during normal USDA approved animal husbandry procedures. For live animals, unlimited specimens would be collected for import or export from not more than 20 individual animals per species per year. Specimens may be taken at anytime of the year and in all areas worldwide where pinnipeds and cetaceans are found. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: June 26, 2012.
P. Michael Payne,
Chief, Permits and Conservation Division, Office of Protected Resources, National Marine Fisheries Service.

[FR Doc. 2012-16062 Filed 6-28-12; 8:45 am]

BILLING CODE 3510-22-P